DEPARTMENT OF LABOR

Employment and Training Administration

[TA-W-85,574]

Verso Paper Corporation, Bucksport Mill Division, Including On-Site Leased Workers From Imerys and Elite Staffing Including Workers Whose Unemployment Insurance (UI) Wages Are Reported Through Verso Paper, LLC Bucksport, Maine; Amended Certification Regarding Eligibility To Apply for Worker Adjustment Assistance

In accordance with Section 223 of the Trade Act of 1974, as amended (“Act”), 19 U.S.C. 2273, the Department of Labor issued a Certification of Eligibility to Apply for Worker Adjustment Assistance on November 12, 2014, applicable to workers of Verso Paper Corporation, Bucksport Mill Division, including workers whose unemployment insurance (UI) wages are reported through Verso Paper, LLC, Bucksport, Maine.

At the request of a state workforce official, the Department reviewed the certification for workers of the subject firm. The workers were engaged in activities related to the production of coated, uncoated mechanical and specialty paper.

The company reports that workers leased from Imerys and Elite Staffing were on-site at the Bucksport, Maine location of Verso Paper Corporation. The Department has determined that these workers were sufficiently under the control of the subject firm to be considered leased workers.

Based on these findings, the Department is amending this certification to include workers leased from Imerys and Elite Staffing working on-site at the Bucksport, Maine location of Verso Paper Corporation, Bucksport Mill Division.

The amended notice applicable to TA-W-85,574 is hereby issued as follows:

All workers of Imerys and Elite Staffing, reporting to Verso Paper Corporation, Bucksport Mill Division, including workers whose unemployment insurance (UI) wages are reported through Verso Paper, LLC, Bucksport, Maine, who became totally or partially separated from employment on or after January 7, 2014 through November 12, 2016, and all workers in the group threatened with total or partial separation from employment on the date of certification through two years from the date of certification, are eligible to apply for adjustment assistance under Chapter 2 of Title II of the Trade Act of 1974, as amended.

Signed in Washington, DC, this 16th day of December, 2014.
Michael W. Jaffe,
Certifying Officer, Office of Trade Adjustment Assistance.

[FR Doc. 2014-30507 Filed 12-29-14; 8:45 am]

BILLING CODE 4510-FN-P